DEPARTMENT OF VETERANS AFFAIRS

VA High Risk List Action Plan, Managing Risks, and Improving VA Health Care

AGENCY: Department of Veterans Affairs.

ACTION: Notice.

SUMMARY: Notice is given that the Department of Veterans Affairs (VA) report, High Risk List Action Plan Update—Managing Risks and Improving VA Health Care, provided to the U.S. Government Accountability Office (GAO), is available for public review at https://www.va.gov/performance/. In this update, VA provides status on actions taken from March 2020 through May 2021, future planned actions with detailed project milestones, refined goals and objectives, a resource assessment, information on work related to the coronavirus disease 2019 (COVID-19) pandemic and a response to critiques made in GAO's 2021 High Risk Series: Dedicated Leadership Needed to Address Limited Progress in Most High-Risk Areas (21-119SP), published March 2, 2021.

FOR FURTHER INFORMATION CONTACT: Karen Rasmussen, M.D., Director for GAO-Office of Inspector General Accountability Liaison at 202-340-9429 or VHA10BGOALGAOHRL@va.gov.

SUPPLEMENTARY INFORMATION: VA's commitment to addressing the management functions GAO highlighted in its report will ensure initiatives continue to be reinforced by sound policy; are implemented by staff with the right knowledge, skills, and abilities; receive the right information technology support; identify and secure essential human and financial resources; have management oversight; and are accountable throughout planning, implementation, and reinforcement. Leaders in the Veterans Health Administration, in partnership with the Office of Information Technology, continue to establish a unified vision for ensuring VA effectively takes action to address the five areas of concern and drives organizational accountability toward resolution of the high-risk listing.

Signing Authority

Denis McDonough, Secretary of Veterans Affairs, approved this document on September 2, 2021, and authorized the undersigned to sign and submit the document to the Office of the Federal Register for publication electronically as an official document of the Department of Veterans Affairs.

Michael P. Shores,
Director, Office of Regulation Policy & Management, Office of General Counsel, Department of Veterans Affairs.

[FR Doc. 2021-19453 Filed 9-7-21; 8:45 am]

BILLING CODE 8320-01-P